GOVERNMENT ACCOUNTABILITY OFFICE

Health Information Technology Advisory Committee Nominations; Request for Letters of Nomination and Resumes

AGENCY: Government Accountability Office (GAO).

ACTION: Request for letters of nomination and resumes.

SUMMARY: The 21st Century Cures Act established the Health Information Technology Advisory Committee to provide recommendations to the National Coordinator for Health Information Technology on policies, standards, implementation specifications, and certification criteria relating to the implementation of a health information technology infrastructure that advances the electronic access, exchange, and use of health information. The Act gave the Comptroller General responsibility for appointing 14 of the committee's members. The Act requires that members at least reflect providers, ancillary health care workers, consumers, purchasers, health plans, health information technology developers, researchers, patients, relevant Federal agencies, and individuals with technical expertise on health care quality, system functions, privacy, security, and on the electronic exchange and use of health information, including the use standards for such activity. GAO is accepting nominations of individuals for this committee. Letters of nomination and resumes should be submitted by April 14, 2017 for appointments that will be made in July 2017. Acknowledgement of submissions will be provided within a week of submission. Please contact Will Simerl at (404) 679-1888 if you do not receive an acknowledgement.

ADDRESSES:

Email: HITCommittee@gao.gov.

Mail: ATTN: HITC Appointments, U.S. GAO, 441 G Street NW., Washington, DC 20548.

FOR FURTHER INFORMATION CONTACT: GAO Office of Public Affairs, (202) 512-4800.

Authority: Pub. L. 114-255, § 3002(d) (2016).

Gene L. Dodaro,
Comptroller General of the United States.

[FR Doc. 2017-04456 Filed 3-7-17; 8:45 am]

BILLING CODE 1610-02-M